OFFICE OF THE UNITED STATES TRADE REPRESENTATIVE

Notice of Continuation and Request for Nominations for the Industry Trade Advisory Committees

AGENCY: Office of the United States Trade Representative.

ACTION: Notice and request for applications.

SUMMARY: The United States Trade Representative (Trade Representative) and the Secretary of Commerce (Secretary) have established a new four-year charter term ending in February 2022, and are accepting applications from qualified individuals interested in serving as a member of an Industry Trade Advisory Committee (ITAC). The ITACs provide detailed policy and technical advice, information, and recommendations to the Secretary and the Trade Representative regarding trade barriers, negotiation of trade agreements, and implementation of existing trade agreements affecting industry sectors, and perform other advisory functions relevant to U.S. trade policy matters. There currently are opportunities for membership on each ITAC and we will accept nominations throughout the charter term.

DATES: We will accept nominations for membership on the ITACs throughout the four-year charter term.

ADDRESSES: Submit nominations via email to ITAC@trade.gov.

FOR FURTHER INFORMATION CONTACT: Ingrid Mitchem, Director, Industry Trade Advisory Center, U.S. Department of Commerce at 202-482-3268, or Gregory Walters, Assistant United States Trade Representative for Intergovernmental Affairs and Public Engagement at Gregory.M.Walters@ustr.eop.gov or 202-395-2558. You can find additional information about the ITACs on the International Trade Administration website at www.trade.gov/itac.

SUPPLEMENTARY INFORMATION:

I. Background

Section 135 of the Trade Act of 1974, as amended (19 U.S.C. 2155), establishes a private-sector trade advisory system to ensure that U.S. trade policy and trade negotiation objectives adequately reflect U.S. commercial and economic interests. Section 135(c)(2) (19 U.S.C. 2155(c)(2)) directs the President to establish sectoral or functional trade advisory committees, as appropriate, including representatives of industry, labor, agriculture, and services, including small business, in the sector or functional area concerned, to provide detailed policy and technical advice, information, and recommendations regarding trade barriers, negotiation of trade agreements, and implementation of existing trade agreements affecting industry sectors, and perform other advisory functions relevant to U.S. trade policy matters as requested.

II. What do the ITACs do?

The ITACs provide detailed policy and technical advice, information, and recommendations to the Secretary and the Trade Representative on trade policy matters including: (1) Negotiating objectives and bargaining positions before entering into trade agreements; (2) the impact of the implementation of trade agreements on the relevant sector; (3) matters concerning the operation of any trade agreement once entered into; and (4) other matters arising in connection with the development, implementation, and administration of the trade policy of the United States. The nonpartisan, industry input provided by the ITACs is important in developing unified trade policy objectives and positions when the United States negotiates and implements trade agreements.

The ITACs address market-access problems, trade barriers, tariffs, discriminatory foreign procurement practices, and information, marketing, and advocacy needs of their industry sector. Eleven ITACs (ITACS 1-11) provide advice and information on issues that affect specific sectors of U.S. industry. Three ITACs (ITACs 12-14) focus on crosscutting functional issues that affect all industry sectors and include specifically appointed members along with non-voting members from the industry specific ITACs to represent a broad range of industry perspectives. The ITACs may address other trade policy issues, e.g., government procurement and subsidies, in ad hoc working groups.

III. What is the ITAC slate for 2018-2022?

When the Trade Representative and the Secretary organize the ITACs, the Trade Act requires that they consult with interested private organizations and consider:

• Patterns of actual or potential competition between U.S. industry and agriculture and foreign enterprise in international trade.

• The character of the nontariff barriers and other distortions affecting such competition.

• The necessity for reasonable limits on the number and size of the ITACs.

• That the product lines covered by each ITAC are reasonably related.

The Office of the U.S. Trade Representative and the U.S. Department of Commerce requested comments on proposed changes to the slate of ITACs (83 FR 3253) and received 23 written submissions in response. A majority of the responses were a substantially similar letter in opposition to merging ITAC 7 and ITAC 9. A significantly smaller portion advocated against the elimination of the Committee of Chairs.

We have carefully considered these submissions and other factors including the nature of the U.S. industry in various sectors, the level of interest in serving on an ITAC (using the number of members and applications for appointment during the 2014-2018 charter terms), the level of activity of each ITAC (using the number of meetings and recommendations submitted during the 2014-2018 charter terms), and constraints on the resources to support and engage with the ITACs. We also are renaming ITAC 10 to Services to more accurately reflect the functions of the committee. Based on all of this information, pursuant to section 135(c)(2) of the Trade Act, the Secretary and the Trade Representative have established new four-year charter terms for the following ITACs, that began on February 14, 2018 and will end on February 14, 2022.

ITAC 1 Aerospace Equipment

ITAC 2 Automotive Equipment and Capital Goods

ITAC 3 Chemicals, Pharmaceuticals, Health/Science Products and Services

ITAC 4 Consumer Goods

ITAC 5 Forest Products, Building Materials, Construction and Nonferrous Metals

ITAC 6 Energy and Energy Services

ITAC 7 Steel

ITAC 8 Digital Economy

ITAC 9 Small and Minority Business

ITAC 10 Services

ITAC 11 Textiles and Clothing

ITAC 12 Customs Matters and Trade Facilitation

ITAC 13 Intellectual Property Rights

ITAC 14 Standards and Technical Trade Barriers

The ITACs are subject to the provisions of the Federal Advisory Committee Act. See 19 U.S.C. 2155(f); 5 U.S.C. App. II.

IV. Membership

Each ITAC consists of members with experience relevant to the industry sector for ITACs 1 through 11 or the subject area for ITACs 12 through 14. All ITAC members serve in a representative capacity (there are no special government employees (SGEs)) and present the views and interests of a sponsoring U.S. entity or U.S. organization and the entity's or organization's subsector (if applicable). In selecting members, the Secretary and the Trade Representative consider the nominee's ability to carry out the objectives of the ITAC, including knowledge and expertise of the industry and of trade matters relevant to the work of the ITAC, and ensuring that the ITAC is balanced in terms of points of view, demographics, geography, and entity or organization size. Appointments are made without regard to political affiliation.

The Secretary and the Trade Representative appoint all ITAC members for a term of four-years or until the ITAC charter expires, and members serve at the discretion of the Secretary and the Trade Representative. Individuals can be reappointed for any number of terms. Appointments are made at the time an ITAC is re-chartered and periodically throughout the four-year charter term. Appointments expire at the end of the charter term, in this case, on February 14, 2022.

ITAC members serve without compensation, including reimbursement of expenses. Members are responsible for all expenses they incur to attend meetings or otherwise participate in ITAC activities.

The ITACs meet as needed, depending on various factors such as the level of activity of trade negotiations and the needs of the Secretary and the Trade Representative. On average, each ITAC meet six times a year in Washington, DC.

V. Request for Nominations

The Secretary and the Trade Representative are soliciting nominations for membership on the ITACs.

A. Eligibility Requirements

To apply for membership, an applicant must meet the following eligibility criteria:

1. The applicant must be a U.S. citizen.

2. The applicant cannot be a full-time employee of a U.S. governmental entity.

3. The applicant cannot be registered with the U.S. Department of Justice under the Foreign Agents Registration Act.

4. The applicant must be able to obtain and maintain a security clearance.

5. The applicant must represent either:

a. A U.S. entity that is directly engaged in the import or export of goods or services or that provides services in direct support of the international trading activities of other entities; or

b. A U.S. organization that trades internationally, represents members that trade internationally, or, consistent with the needs of an ITAC as determined by the Secretary and the Trade Representative, represents members who have a demonstrated interest in international trade.

For eligibility purposes, a “U.S. entity” is a for-profit firm engaged in commercial, industrial, or professional activities that is incorporated in the United States (or is an unincorporated U.S. firm with its principal place of business in the United States) that is controlled by U.S. citizens or by other U.S. entities. An entity is not a U.S. entity if 50 percent plus one share of its stock (if a corporation, or a similar ownership interest of an unincorporated entity) is known to be controlled, directly or indirectly, by non-U.S. citizens or non-U.S. entities.

For eligibility purposes, a “U.S. organization” is an organization, including a trade association, labor union or organization, and nongovernmental organization (NGO), established under the laws of the United States, that is controlled by U.S. citizens, by another U.S. organization (or organizations), or by a U.S. entity (or entities), as determined based on its board of directors (or comparable governing body), membership, and funding sources, as applicable. To qualify as a U.S. organization, more than 50 percent of the board of directors (or comparable governing body) and more than 50 percent of the membership of the organization to be represented must be U.S. citizens, U.S. organizations, or U.S. entities. Additionally, in order for an NGO to qualify as a U.S. organization, at least 50 percent of the NGO's annual revenue must be attributable to nongovernmental U.S. sources.

An applicant who will represent an entity or organization known to have 10 percent or greater non-U.S. ownership of its shares or equity, non-U.S. board members, non-U.S. membership, or non-U.S. funding sources, as applicable, must certify that this non-U.S. interest does not constitute control and will not adversely affect his/her ability to serve as a trade advisor to the United States.

The Secretary and the Trade Representative have appointed, and will consider nominees, who represent the public health or health care community to ITACs 3 and 13, and environmental viewpoints to ITACs 3 and 5.

B. How do I apply?

To be considered for ITAC membership, interested persons should submit the following to the Director of the Industry Trade Advisory Center at the U.S. Department of Commerce at ITAC@trade.gov:

1. Name, title, affiliation, and contact information of the individual requesting consideration.

2. The ITAC for which the individual is applying for appointment.

3. A sponsor letter on the entity's or organization's letterhead containing a brief description of why the Secretary and the Trade Representative should consider the individual for membership.

4. The individual's personal resume or comprehensive biography demonstrating knowledge of international trade issues.

5. An affirmative statement that the individual and the sponsoring entity or organization s/he represents meet all eligibility requirements.

6. Information regarding the sponsoring entity or organization, including the control of the entity or organization to be represented and the entity's or organization's size and ownership, product or service line, and trade activities.

7. You can find information on the additional requirements for consultants and legal advisors, which vary depending on the nature of the entity or organization and the interests the individual will represent, on the International Trade Administration website at www.trade.gov/itac or by contacting the Industry Trade Advisory Center at ITAC@trade.gov.

The Secretary and the Trade Representative will consider applicants who meet the eligibility criteria based on the following factors: Ability to represent the sponsoring U.S. entity's or U.S. organization's and its subsector's interests on trade matters; knowledge of and experience in trade matters relevant to the work of the ITAC; and ensuring that the ITAC is balanced in terms of points of view, demographics, geography, and entity or organization size.

Gregory Walters,
Assistant United States Trade Representative for Intergovernmental Affairs and Public Engagement, Office of the United States Trade Representative.

[FR Doc. 2018-09966 Filed 5-9-18; 8:45 am]

BILLING CODE 3290-F8-P